DEPARTMENT OF TRANSPORTATION

Federal Aviation Administration

Agency Information Collection Activities: Requests for Comments; Clearance of New Approval of Information Collection: Safety Awareness, Feedback, and Evaluation (SAFE) Program

AGENCY: Federal Aviation Administration (FAA), DOT.

ACTION: Notice and request for comments.

SUMMARY: In accordance with the Paperwork Reduction Act of 1995, FAA invites public comments about our intention to request the Office of Management and Budget (OMB) approval for a new information collection. The information collected will be used by FAA Flight Standards Service to improve the quality and delivery of the services and products provided to their stakeholders.

DATES: Written comments should be submitted by June 11, 2013.

FOR FURTHER INFORMATION CONTACT: Kathy DePaepe at (405) 954-9362, or by email at: Kathy.A.DePaepe@faa.gov.

SUPPLEMENTARY INFORMATION: OMB Control Number: 2120-XXXX.

Title: Safety Awareness, Feedback, and Evaluation (SAFE) Program.

Form Numbers: No FAA forms are associated with this collection.

Type of Review: Clearance of a new information collection.

Background: Executive Order 12862 requires the Federal Government to provide the “highest quality service possible to the American people.” The FAA Flight Standards Service has designed the Safety Awareness, Feedback, and Evaluation (SAFE) Program to measure the aviation community stakeholder perception of effectiveness with various FAA-mandated and regulatory programs.

Respondents: A total sample of 3,218 commercial and non-commercial pilots, repair station operators, maintenance technicians, and air carrier operations managers.

Frequency: Information will be collected once annually per individual stakeholder group.

Estimated Average Burden per Response: 20 minutes.

Estimated Total Annual Burden: 358 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on April 8, 2013.
Albert R. Spence,
FAA Assistant Information Collection Clearance Officer, IT Enterprises Business Services Division, AES-200.

[FR Doc. 2013-08622 Filed 4-11-13; 8:45 am]

BILLING CODE 4910-13-P